FEDERAL MARITIME COMMISSION

Notice of Agreements Filed

The Commission hereby gives notice of the filing of the following agreement under the Shipping Act of 1984. Interested parties may submit comments on the agreement to the Secretary by email at Secretary@fmc.gov, or by mail, Federal Maritime Commission, Washington, DC 20573, within twelve days of the date this notice appears in the Federal Register. Copies of agreements are available through the Commission's website (www.fmc.gov) or by contacting the Office of Agreements at (202) 523-5793 or tradeanalysis@fmc.gov.

Agreement No.: 201327.

Agreement Name: Sealand/GWF Ecuador Slot Charter Agreement.

Parties: Maersk Line A/S d/b/a Sealand and Great White Fleet Corp.

Filing Party: Wayne Rohde; Cozen O'Connor.

Synopsis: The Agreement authorizes Sealand to charter space to Great White Fleet on Sealand's South Atlantic Express service in the trade between Ecuador and the Pacific Coast of the United States.

Proposed Effective Date: 12/11/2019.

Location: https://www2.fmc.gov/FMC.Agreements.Web/Public/AgreementHistory/26451.

Dated: December 13, 2019.
Rachel E. Dickon,
Secretary.

[FR Doc. 2019-27300 Filed 12-18-19; 8:45 am]

BILLING CODE 6731-AA-P